DEPARTMENT OF HOMELAND SECURITY

[Docket No. DHS-2011-0117]

National Infrastructure Advisory Council

AGENCY: National Protection and Programs Directorate, DHS.

ACTION: Committee Management; Notice of an open Federal Advisory Committee Meeting.

SUMMARY: The National Infrastructure Advisory Council (NIAC) will meet on Tuesday, January 10, 2012, at the National Press Club, Ballroom, 529 14th Street, NW., Washington, DC 20045. The meeting will be open to the public.

DATES: The NIAC will meet Tuesday, January 10, 2012, from 1:30 p.m. to 4:30 p.m. The meeting may close early if the committee has completed its business. For additional information, please consult the NIAC Web site, www.dhs.gov/niac, or contact the NIAC Secretariat by phone at (703) 235-2888 or by email at NIAC@dhs.gov.

ADDRESSES: The meeting will be held at the National Press Club, Ballroom, 529 14th Street, NW., Washington, DC 20045.

While this meeting is open to the public, participation in the NIAC deliberations is limited to committee members and appropriate Federal Government officials. Discussions may include committee members, appropriate Federal Government officials, and other invited persons attending the meeting to provide information that may be of interest to the Council.

Immediately following the committee member deliberation and discussion period, there will be a limited time period for public comment. Comments should be limited to the issues related the committee's work. Agenda and relevant documents for this meeting can be found on the NIAC Web site: www.dhs.gov/niac. Relevant public comments may be submitted in writing or presented in person for the Council to consider. In-person presentations will be limited to three minutes per speaker, with no more than 30 minutes for all speakers. Parties interested in making in-person comments must register no fewer than 15 minutes prior to the beginning of the meeting at the meeting location. Oral comments will be permitted based upon the order of registration; all registrants may not be able to speak if time does not permit. Written comments may be sent to Nancy Wong, National Protection and Programs Directorate, Department of Homeland Security, 245 Murray Lane, SW., Mail Stop 0607, Arlington, VA 20598-0607. Written comments must be received by Nancy Wong no later than January 3, 2012, identified by Federal Register Docket Number DHS-2011-0117. Comments may also be submitted by any one of the following methods:

• Federal eRulemaking Portal: www.regulations.gov. Follow the instructions for submitting written comments.

• Email: NIAC@dhs.gov. Include the docket number in the subject line of the message.

• Fax: (703) 603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President through the Secretary of Homeland Security with advice on the security of the critical infrastructure sectors and their information systems.

The NIAC will meet to address issues relevant to the protection of critical infrastructure as directed by the President. At this meeting, the committee will receive work from a NIAC working group on Public/Private Intelligence Information Sharing, review and deliberate on the work, and provide further direction to the working group. Please check the Web site for products from the NIAC working group prior to the meeting at www.dhs.gov/niac.

The Federal Advisory Committee Act requires that notices of meetings of advisory committees be announced in the Federal Register 15 days prior to the meeting date. This notice of the meeting of the NIAC is being published in the Federal Register on December 28, 2011, 12 days prior to the meeting, due to recent changes in budgeting procedures for conferences. Although the meeting notice will be published in the Federal Register late, the meeting information has been available online at www.dhs.gov/niac since early December 2011, and we are coordinating with industry stakeholders through the NIAC members.

Meeting Agenda

I. Opening of Meeting

II. Roll Call of Members

III. Opening Remarks and Introductions

IV. Approval of July 12, 2011 Minutes

V. Deliberation/Recommendations: Public/Private Sector Intelligence Information Sharing Study

i. Presentation and Recommendations of the Working Group

ii. Public Comment Period

iii. Deliberations and Consensus Recommendations

VI. Discussion on Potential Study Topics

VII. Closing Remarks

VIII. Adjournment

Information on Services for Individuals With Disabilities

For information on facilities or services for individuals with disabilities or to request special assistance at the meeting, contact the NIAC Secretariat at (703) 235-2888 as soon as possible.

Dated: December 22, 2011.
Renee Murphy,
Alternate Designated Federal Officer for the NIAC.

[FR Doc. 2011-33419 Filed 12-28-11; 8:45 am]

BILLING CODE 9110-9P-P